DEPARTMENT OF TRANSPORTATION

Federal Railroad Administration Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than February 9, 2009.

ADDRESSES: Submit written comments on any or all of the following proposed activities by mail to either: Mr. Robert Brogan, Office of Safety, Planning and Evaluation Division, RRS-21, Federal Railroad Administration, 1200 New Jersey Ave., SE., Mail Stop 17, Washington, DC 20590, or Ms. Nakia Jackson, Office of Information Technology, RAD-20, Federal Railroad Administration, 1200 New Jersey Ave., SE., Mail Stop 35, Washington, DC 20590. Commenters requesting FRA to acknowledge receipt of their respective comments must include a self-addressed stamped postcard stating, “Comments on OMB control number 2130-0548.” Alternatively, comments may be transmitted via facsimile to (202) 493-6216 or (202) 493-6497, or via e-mail to Mr. Brogan at robert.brogan@dot.gov, or to Ms. Jackson at nakia.jackson@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 17, Washington, DC 20590 (telephone: (202) 493-6292) or Ms. Nakia Jackson, Office of Information Technology, RAD-20, Federal Railroad Administration, 1200 New Jersey Ave., SE., Mail Stop 35, Washington, DC 20590 (telephone: (202) 493-6073). (These telephone numbers are not toll-free.)

SUPPLEMENTARY INFORMATION: The Paperwork Reduction Act of 1995 (PRA), Public Law No. 104-13, § 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. § 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved information collection activities that FRA will submit for clearance by OMB as required under the PRA:

Title: Railroad Rehabilitation and Improvement Financing Program.

OMB Control Number: 2130-0548.

Abstract: Prior to the enactment of the Transportation Equity Act of the 21st Century (“TEA 21”), Title V of the Railroad Revitalization and Regulatory Reform Act of 1976 (the “Act”), 45 U.S.C. 821 et seq., authorized FRA to provide railroad financial assistance through the purchase of preference shares (45 U.S.C. 825), and the issuance of loan guarantees (45 U.S.C. 831). The FRA regulations implementing the preference share program were eliminated on February 9, 1996, due to the fact that the authorization for the program expired (28 FR 4937). The FRA regulations implementing the loan guarantee provisions of Title V of the Act are contained in 49 CFR 260. Section 7203 of TEA 21, Public Law 105-178 (June 9, 1998), replaces the existing Title V financing programs. The collection of information is used by FRA staff to determine the eligibility of applicants for a loan regarding eligible projects for the improvement/rehabilitation of rail equipment or facilities, the refinancing of outstanding debt for these purposes, or the development of new intermodal or railroad facilities. The aggregate unpaid principal amounts of obligations can not exceed $3.5 billion at any one time and not less than $1 billion is to be available solely for projects benefitting railroads other than Class I carriers.

Affected Public: State and local governments, government sponsored authorities and corporations, railroads (including Amtrak), and joint ventures that include at least one railroad.

Reporting Burden
CFR section | Respondent universe | Total annual responses | Average time per response (hours) | Total annual burden hours
260.19—Pre-Application Meeting | 21,956 potential applicants | 3 meetings | 1 | 3
260.23—Form and Content of Applications Generally | 21,956 potential applicants | 15 applications | 20 | 300
229.25—Additional Information for Applicants without a Credit Rating | 555 potential applicants | 13 financial document packages | 50 | 650
260.31—Execution and Filing of the Application—Original—Certificates with Original Application—Transmittal Letters—Original Application and Supporting Documents | 21,956 potential applicants 21,956 potential applicants 21,956 potential applicants 21,956 potential applicants | 15 executed app. 15 certificates 20 letters 15 app. pkgs. | .6 .6 .6 1.5 | 9 9 9 23
260.33—Information Requests—Statements by Applicants Requesting Confidentiality of Submitted Information | 21,956 potential applicants | 15 statements | *30 | 8
260/35—Environmental Assessment—Environmental Impact Statements/Documents—Consultations with FRA Administrator | 21,956 potential applicants 21,956 potential applicants | 2 assessments 5 consultations | 1,000 1 | 2,000 5
260.41—Inspection and Reporting—Submission of Financial and Other Documents Detailing Maintenance and Inspection in Compliance with Section 260.39 | 21,956 potential applicants | 120 financial records | 10 | 1,200
260.49—Avoiding Defaults—Deferral Requests | 21,956 potential applicants | 1 request | 10 | 10
* In minutes.

Total Responses: 239.

Estimated Total Annual Burden: 4,226 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on December 3, 2008.
Martin J. Eble,
Acting Director, Office of Financial Management, Federal Railroad Administration.

[FR Doc. E8-29098 Filed 12-9-08; 8:45 am]

BILLING CODE 4910-06-P